NATIONAL ARCHIVES AND RECORDS ADMINISTRATION

[NARA-2016-046]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records not previously authorized for disposal or reduce the retention period of records already authorized for disposal. NARA invites public comments on such records schedules, as required by 44 U.S.C. 3303a(a).

DATES: NARA must receive requests for copies in writing by September 26, 2016. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Farm Service Agency (DAA-0145-2016-0008, 2 items, 2 temporary items). Background records and public comments related to Federal Register notices and agency rulemaking.

2. Department of Agriculture, Farm Service Agency (DAA-0145-2016-0009, 1 item, 1 temporary item). Records of payments made to farmers.

3. Department of Agriculture, Farm Service Agency (DAA-0145-2016-0010, 1 item, 1 temporary item). Records related to a defense preparedness program, including plans, correspondence, and reports.

4. Department of Defense, National Guard Bureau (DAA-0168-2016-0004, 1 item, 1 temporary item). Records regarding manpower planning and allocation including briefings, presentations, statistical reports, and related records.

5. Department of Health and Human Services, Office of the Secretary (DAA-0468-2016-0001, 5 items, 5 temporary items). Records of the Office of Public Affairs to include intranet and Web site records relating to content, management, and support.

6. Department of Health and Human Services, Office of the Secretary (DAA-0468-2016-0002, 8 items, 3 temporary items). Records of the Office of the Inspector General including routine correspondence, regulation support records, and working papers. Proposed for permanent retention are policy records, press releases, and Congressional correspondence, testimonies, and mandated reports.

7. Department of Homeland Security, United States Citizenship and Immigration Services (DAA-0566-2016-0015, 6 items, 6 temporary items). Master files of an electronic information system used to track applications for employment-based specialty occupation visas rejected because they were received after the quota for that visa category was reached.

8. Department of Veterans Affairs, Veterans Benefits Administration (DAA-0015-2016-0008, 2 items, 2 temporary items). Records related to approving and monitoring homeless shelter providers including applications and performance files.

9. Department of Veterans Affairs, Veterans Health Administration (DAA-0015-2016-0005, 1 item, 1 temporary item). Records relating to projected health care cost and utilization including statistical studies, analyses, and summary reports.

10. Architectural and Transportation Barriers Compliance Board, Agency-wide (DAA-0588-2016-0001, 4 items, 2 temporary items). Email relating to temporary program and administrative functions and to non-substantive rulemaking activities. Proposed for permanent retention is email relating to program management and committee activity functions.

11. National Archives and Records Administration, Government-wide (DAA-GRS-2016-0008, 1 item, 1 temporary item). General Records Schedule for records that agencies are required by statute to publish online for public access, such as as online Freedom of Information Act libraries.

12. National Archives and Records Administration, Government-wide (DAA-GRS-2016-0011, 17 items, 16 temporary items). General Records Schedule for records of maintenance and service of facilities, equipment, vehicles, property, and supplies. Proposed for permanent retention are maintenance manuals of unique or customized aircraft.

13. National Archives and Records Administration, Government-wide (DAA-GRS-2016-0012, 4 items, 4 temporary items). General Records Schedule for records produced in managing mail, printing, and telecommunication services.

14. National Archives and Records Administration, Government-wide (DAA-GRS-2016-0013, 3 items, 3 temporary items). General Records Schedule for records on the routine day-to-day administration of the financial management and reporting, technology management, and information access and protection functions.

Laurence Brewer,
Chief Records Officer for the U.S. Government.

[FR Doc. 2016-20355 Filed 8-24-16; 8:45 am]

BILLING CODE 7515-01-P